DEPARTMENT OF LABOR

Employment and Training Administration

[TA-W-60,064]

Delphi Corportion, Automotive Holdings Group, Including On-Site Leased Workers from 850 Managed Services, Inc., d/b/a Tac Automotive Worldwide Companies, Columbus, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on October 19, 2006, applicable to workers of Delphi Corporation, Automotive Holdings Group, Columbus, Ohio. The notice was published in the Federal Register on November 6, 2006 (71 FR 65004).

At the request of the State agency, the Department reviewed the certification for workers of the subject firm. The workers were engaged in the production of automotive components (specifically latches, strikers, door modules and power products).

New information shows that workers leased from 850 Managed Services, d/b/a/ TAC Automotive Worldwide Companies were employed on-site at the Columbus, Ohio location of Delphi Corporation, Automotive Holdings Group. The Department has determined that these workers were sufficiently under the control of Delphi Corporation, Automotive Holdings Group to be considered leased workers.

Based on these findings, the Department is amending this certification to include workers leased from 850 Managed Services, Inc., d/b/a TAC Automotive Worldwide Companies working on-site at the Columbus, Ohio location of the subject firm.

The intent of the Department's certification is to include all workers employed at Delphi Corporation, Automotive Holdings Group, Columbus, Ohio who were adversely affected by a shift in production of automotive components (specifically latches, strikers, door modules and power products) to Mexico.

The amended notice applicable to TA-W-60,064 is hereby issued as follows:

“All workers of Delphi Corporation, Automotive Holdings Group, including on-site leased workers from 850 Managed Services, Inc., d/b/a TAC Automotive Worldwide Companies, Columbus, Ohio, who became totally or partially separated from employment on or after September 11, 2005, through October 19, 2008, are eligible to apply for adjustment assistance under Section 223 of the Trade Act of 1974, and are also eligible to apply for alternative trade adjustment assistance under Section 246 of the Trade Act of 1974.”

Signed at Washington, DC, this 20th day of November 2008.
Linda G. Poole,
Certifying Officer, Division of Trade Adjustment Assistance.

[FR Doc. E8-28352 Filed 11-28-08; 8:45 am]

BILLING CODE 4510-FN-P